DEPARTMENT OF HEALTH AND HUMAN SERVICES

Centers for Disease Control and Prevention

[60Day-19-19AXA; Docket No. CDC-2019-0046]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Annual Reporting of the Rape Prevention and Education (RPE) Program: CE19-1902 Cooperative Agreement.” Information will be collected annually from RPE recipients and will provide crucial data for performance monitoring and program evaluation of the implementation of prevention strategies and approaches, outcomes, and budget of the cooperative agreement.

DATES: Written comments must be received on or before August 5, 2019.

ADDRESSES: You may submit comments, identified by Docket No. CDC-2019-0046 by any of the following methods:

Federal eRulemaking Portal: Regulation.gov. Follow the instructions for submitting comments.

Mail: Jeffrey M. Zirger, Information Collection Review Office, Centers for Disease Control and Prevention, 1600 Clifton Road NE, MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Annual Reporting of the Rape Prevention and Education (RPE) Program: CE19-1902 Cooperative Agreement—New—National Center for Injury Prevention and Control (NCIPC), Centers for Disease Control and Prevention (CDC).

Background and Brief Description

OMB approval is requested for three years for this new collection. The RPE Program, which provides funding to health departments in all 50 states, the District of Columbia (DC), Puerto Rico, Guam, the U.S. Virgin Islands, and the Commonwealth of Northern Mariana Islands. This ICR will collect information related to implementation and outcomes annually from recipients of the new funding opportunity CDC-RFA-CE19-1902: Rape Prevention and Education (RPE): Using The Best Available Evidence for Sexual Violence Prevention cooperative agreement. This new RPE funding opportunity differs greatly from previous funding opportunities provided by CDC through the RPE Program. Specifically, program activities differ from the previous funding cycles, and the program will be collecting information for the first time on recipient outcomes.

RPE Program recipients or designated delegates will submit data annually into the online data system, DVP Partners Portal. Recipients will monitor and report progress on their goals, objectives, and activities, as well as relevant information on the implementation of their prevention strategies, outcomes, evaluation, and state action plan.

Collecting information about the implementation and outcomes of CE19-1902 cooperative agreement through the online data system, DVP Partners Portal, is crucial to informing Sexual Violence prevention nationally; enhancing accountability of the use of federal funds; providing timely program reports and responses to information requests, such as Congressional requests mandated by the authorizing legislation; improving real-time communications between CDC and RPE recipients; and strengthening CDC's capacity to provide responsive data-driven technical assistance and to monitor and evaluate recipients' progress and performance. The only cost to respondents will be time spent responding to the survey/screener. The total estimated annualized burden hours is 440.

Estimated Annualized Burden Hours
Type of respondents | Form name | Number of respondents | Number of responses per respondent | Average burden per response (in hours) | Total burden (in hours)
RPE-funded Health Departments (State, DC, and Territories) and their Designated Delegates | Annual Reporting—Initial Population | 55 | 1 | 4 | 220
| Annual Reporting—Subsequent Reporting. | 55 | 2 | 2 | 220
Total |  |  |  |  | 440

Jeffrey M. Zirger,
Lead, Information Collection Review Office, Office of Scientific Integrity, Office of Science, Centers for Disease Control and Prevention.

[FR Doc. 2019-11649 Filed 6-4-19; 8:45 am]

BILLING CODE 4163-19-P